DEPARTMENT OF COMMERCE

Bureau of the Census

[Docket Number 160322272-6272-01]

2017 Census of Governments

AGENCY: Bureau of the Census, Commerce.

ACTION: Notice of determination and request for comment.

SUMMARY: The Bureau of the Census (U.S. Census Bureau) publishes this notice to request public comment on the content of the 2017 Census of Governments. The Census of Governments is conducted at 5-year intervals (years ending in 2 and 7) and is the most comprehensive compilation of statistics about state and local governments available. The Census Bureau is seeking input on the content of the 2017 Census of Governments to ensure that the Census of Governments continues to be the most comprehensive measure of state and local governments by adapting to growing areas of interest, accounting and policy changes. The granting of specific authority to conduct the program is Title 13, United States Code (U.S.C.), Section 161, which authorizes and requires the Census of Governments.

DATES: The Census Bureau will begin mailing the 2017 Census of Governments Employment component in the Spring of 2017 and the Finance component in the Fall of 2017. Responses will be due by April 2017 (for the Employment component) and by December 2017 (for the finance component). Therefore, written comments on proposed content changes must be submitted on or before June 6, 2016 to ensure consideration of your comments on the 2017 Census of Governments content.

ADDRESSES: Direct all written comments regarding the 2017 Census of Governments to Kevin Deardorff, Chief, Economy Wide Statistics Division, U.S. Census Bureau, Room 8K154, Washington, DC 20233; or by email kevin.e.deardorff@census.gov.

FOR FURTHER INFORMATION CONTACT: Economy-Wide Statistics Division, U.S. Census Bureau, 4600 Silver Hill Road, C/O Kevin Deardorff, Chief, Economy Wide Statistics Division, U.S. Census Bureau, Room 8K154, Washington, DC 20233; or by email kevin.e.deardorff@census.gov.

SUPPLEMENTARY INFORMATION:

A. Background

Section 161 of Title 13 U.S.C. directs the Secretary of Commerce to “take, compile, and publish for the year 1957 and for every fifth year thereafter a census of governments. Each such census shall include, but shall not be limited to, data on taxes and tax valuations, governmental receipts, expenditures, indebtedness, and employees of States, counties, cities, and other governmental units.” Because of this, the Census of Governments is the most comprehensive, comparable, and precise measure of government economic activity. It identifies the scope and nature of the nation's public sector and provides authoritative benchmark figures of public finance, pensions, and employment. This helps us identify and classify the complex and diverse state and local government organizations, powers, and activities, and measures federal, state, and local fiscal relationships.

This notice requests public comments on the 2017 Census of Governments content as discussed further in Section B of this Federal Register notice. Regular content reviews help keep the Census of Governments valuable to policy analysts, researchers, the general public and other federal agencies.

Two federal statistical agencies, the Bureau of Economic Analysis and the Federal Reserve Board, use the Census of Governments data to measure the nation's economic and financial performance. State and local governments use the data to develop programs and budgets, assess financial conditions, and perform comparative analyses. In addition, analysts, economists, market specialists, and researchers need these data to measure the changing characteristics of the government sector of the economy and to conduct public policy research. Journalists report on, and teachers and students learn about, their governments' activities using our data. Internally, the Census Bureau uses these data as a benchmark for all our non-census year samples.

B. Census of Governments Content

For the 2017 Census of Governments, finance and employment data are the same as in comparable annual surveys and include revenues, expenditures, debt, assets, number of employees (by full-time and part-time status), payroll, and benefits. The Census Bureau posted copies of the 2012 Census of Governments forms on its Web site at: http://www.census.gov/govs/cog/get_forms.html. Please take a moment to review the forms relevant to your interests and provide us with your comments for us to consider as we prepare content for the 2017 questionnaires. In particular, Forms F-11 and F-12 may be of interest, given recent changes to the accounting standards concerning actuarial data for Public Pensions instituted by the Governmental Accounting Standards Board (GASB). We are especially interested in comments on the usefulness of existing inquiries for continued inclusion and in suggestions for new measures that would be appropriate to include in the Census of Governments.

Notwithstanding any other provision of law, no person is required to respond to, nor shall a person be subject to a penalty for failure to comply with a collection of information subject to the requirements of the Paperwork Reduction Act (PRA) unless that collection of information displays a current valid Office of Management and Budget (OMB) control number. The Census Bureau, through the proper established procedures, will be obtaining OMB control numbers under the PRA as we get closer to launching the program in 2017.

Dated: March 29, 2016.
John H. Thompson,
Director, Bureau of the Census.

[FR Doc. 2016-07736 Filed 4-4-16; 8:45 am]

BILLING CODE 3510-07-P